DEPARTMENT OF TRANSPORTATION

Federal Aviation Administration

14 CFR Part 39

[Docket No. 96-NM-179-AD; Amendment 39-13028; AD 2003-03-04]

RIN 2120-AA64

Airworthiness Directives; Airbus Model A300 B2 and B4; A300 B4-600, B4-600R, and F4-600R (Collectively Called A300-600); A310; A319; A320; A321; A330; and A340 Series Airplanes

AGENCY: Federal Aviation Administration, DOT.

ACTION: Final rule.

SUMMARY: This amendment adopts a new airworthiness directive (AD), applicable to all Airbus Model A300 B2 and B4; A300 B4-600, B4-600R, and F4-600R (collectively called A300-600); A310; and certain Airbus Model A319; A320; A321; A330; and A340 series airplanes, that requires repetitive visual inspections of the striker and guide valve of the passenger door actuators and certain emergency door actuators for corrosion, and corrective action, if necessary. This AD also requires modification of the striker mechanism of the emergency and passenger door actuators, which terminates the repetitive inspections. This amendment is prompted by issuance of mandatory continuing airworthiness information by a foreign civil airworthiness authority. The actions specified by this AD are intended to prevent corrosion of the emergency actuator mechanism, which could cause failure of the emergency actuator striker mechanism on the passenger or emergency doors, and lead to difficulty in opening the passenger or emergency doors during an emergency evacuation.

DATES: Effective March 7, 2003.

The incorporation by reference of certain publications listed in the regulations is approved by the Director of the Federal Register as of March 7, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, FAA, Transport Airplane Directorate, International Branch, ANM-116, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A300 B2 and B4; A300 B4-600, B4-600R, and F4-600R (collectively called A300-600); A310; and certain Airbus Model A319; A320; A321; A330; and A340 series airplanes was published in the Federal Register on May 17, 2002 (67 FR 35059). That action proposed to require repetitive visual inspections of the striker and guide valve of the passenger door actuators and certain emergency door actuators for corrosion, and corrective action, if necessary. That action also proposed to require modification of the striker mechanism of the emergency and passenger door actuators, which would terminate the repetitive inspections.

Comments

Interested persons have been afforded an opportunity to participate in the making of this amendment. Due consideration has been given to the comment received.

Request To Allow Credit for Accomplishment of Earlier Service Bulletin

One commenter requests that the FAA allow credit for accomplishment of Airbus Service Bulletin A320-52-1094, Revision 1, dated June 17, 1998, as terminating action for the repetitive inspections. We agree. We find that the procedures specified in that service bulletin revision are essentially identical to those specified in Revision 02 of the service bulletin (which was referenced in the notice of proposed rulemaking (NPRM) as an appropriate source of service information for accomplishment of the terminating action). Therefore, we have revised the final rule to include a new paragraph (g) to specify that modification of the striker mechanism before the effective date of this AD per Revision 1 of Airbus Service Bulletin A320-52-1094 is considered acceptable for compliance with the requirements of paragraph (f) of this AD (designated as paragraph (d) in the NPRM).

Explanation of Editorial Changes

Since the language in Notes 4 and 5 of the proposed AD is regulatory in nature, those notes have been redesignated as paragraphs (d) and (e) of this final rule, respectively (subsequent paragraphs and notes also have been redesignated).

We have changed certain service bulletin citations throughout this final rule to exclude the Service Bulletin Acceptance/Rejection Sheet. The sheet is intended to be completed by operators and submitted to the airplane manufacturer to provide inspection reports to Airbus; however, this AD does not include such a requirement.

Conclusion

After careful review of the available data, including the comment noted above, the FAA has determined that air safety and the public interest require the adoption of the rule with the changes described previously. The FAA has determined that these changes will neither increase the economic burden on any operator nor increase the scope of the AD.

Cost Impact

The FAA estimates that 127 Model A300 B2 and B4 and A300-600 series airplanes of U.S. registry will be affected by this AD.

For these airplanes, it will take approximately 9 work hours per airplane to accomplish the required inspections, at an average labor rate of $60 per work hour. Based on these figures, the cost impact of the inspections on U.S. operators is estimated to be $68,580, or $540 per airplane, per inspection cycle.

It will take approximately 60 work hours per airplane to accomplish the required modification, at an average labor rate of $60 per work hour. Parts cost per airplane will be minimal. Based on these figures, the cost impact of the modification on U.S. operators is estimated to be $457,200, or $3,600 per airplane.

The FAA estimates that 47 Model A310 series airplanes of U.S. registry will be affected by this AD, that it will take approximately 6 work hours per airplane to accomplish the required inspections, and that the average labor rate is $60 per work hour. Based on these figures, the cost impact of the inspections on U.S. operators is estimated to be $16,920, or $360 per airplane, per inspection cycle.

For these airplanes, it will take approximately 20 work hours per airplane to accomplish the required modification, at an average labor rate of $60 per work hour. Parts cost per airplane will be minimal. Based on these figures, the cost impact of the modification on U.S. operators is estimated to be $56,400, or $1,200 per airplane.

The FAA estimates that 887 Model A319, A320, and A330 series airplanes of U.S. registry will be affected by this AD, that it will take approximately 4 work hours per airplane to accomplish the required inspection, and that the average labor rate is $60 per work hour. Based on these figures, the cost impact of the AD on U.S. operators of these airplanes is estimated to be $212,880, or $240 per airplane, per inspection cycle.

For these airplanes, it will take approximately 80 work hours per airplane to accomplish the required modification, at an average labor rate of $60 per work hour. Parts cost per airplane will be minimal. Based on these figures, the cost impact of the modification on U.S. operators is estimated to be $4,257,600, or $4,800 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

There are currently no affected Model A321 or A340 series airplanes on the U.S. Register. All of these airplanes included in the applicability of this rule currently are operated by non-U.S. operators under foreign registry; therefore, they are not directly affected by this AD action. However, the FAA considers it necessary to include these airplanes in the applicability of this rule in order to ensure that the unsafe condition is addressed in the event that any of the subject airplanes are imported and placed on the U.S. Register in the future.

Should an affected Model A321 series airplane be imported and placed on the U.S. Register in the future, it will take approximately 8 work hours per airplane to accomplish the required inspections. Based on an average labor rate of $60 per work hour, the cost impact of the inspections would be $480 per airplane, per inspection cycle.

It will take approximately 20 work hours per airplane to accomplish the required modification on a Model A321 series airplane. Parts cost per airplane will be minimal. Based on an average labor rate of $60 per work hour, the cost impact of the modification will be $1,200 per airplane.

Should an affected Model A340 series airplane be imported and placed on the U.S. Register in the future, it will take approximately 32 work hours per airplane to accomplish the required inspections. Based on an average labor rate of $60 per work hour, the cost impact of the inspections would be $1,920 per airplane, per inspection cycle.

It will take approximately 80 work hours per airplane to accomplish the required modification on a Model A340 series airplane. Parts cost per airplane will be minimal. Based on an average labor rate of $60 per work hour, the cost impact of the modification would be $4,800 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-04 AIRBUS: Amendment 39-13028. Docket 96-NM-179-AD.

Applicability: All Model A300 B2 and B4; A300 B4-600, B4-600R, and F4-600R (collectively called A300-600); A310; A319; A320; A321; A330; and A340 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent corrosion of the emergency actuator mechanism, which could cause failure of the emergency actuator striker mechanism on the passenger or emergency doors, and lead to difficulty in opening the passenger or emergency doors during an emergency evacuation, accomplish the following:

Repetitive Inspections

(a) Within 500 flight hours after the effective date of this AD, or within 36 months after the airplane's date of manufacture, whichever occurs later: Determine if Airbus Modification(s) 45090, 45155, 45197, 45904, 45905, 26015, 26211, 11549, or 12024, as applicable, has been done. If the applicable modification(s) has been done, no further action is required by this AD. If the applicable modification(s) has not been done, before further flight, do the inspections required by paragraph (b) of this AD.

(b) Perform the inspections required by paragraphs (b)(1) and/or (b)(2) of this AD, as applicable, in accordance with Airbus Service Bulletin A300-52-0168, Revision 02, excluding Service Bulletin Acceptance/Rejection Sheet (for Model A300 B2 and B4 series airplanes); A300-52-6052, Revision 02, excluding Service Bulletin Acceptance/Rejection Sheet (for Model A300-600 series airplanes); or A310-52-2058, Revision 02, excluding Service Bulletin Acceptance/Rejection Sheet (for Model A310 series airplanes); all dated October 25, 1999; A330-52-3038, Revision 01, dated December 2, 1996 (for Model A330 series airplanes); A340-52-4048, Revision 03, dated June 10, 1997 (for Model A340 series airplanes); or Airbus All Operator Telex (AOT) 52-12, Revision 1, dated May 9, 1996 (for Model A319, A320, and A321 series airplanes); as applicable. Although certain service bulletins reference a reporting requirement, such reporting is not required by this AD. Repeat the inspections thereafter at intervals not to exceed 3 years:

(1) For Model A321, A330, and A340 series airplanes: Do a detailed inspection of the striker and guide valve of the emergency door actuators for corrosion.

(2) For all airplanes: Do a detailed inspection of the striker and guide valve of the passenger door actuators for corrosion.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Additional service information regarding the required inspections on Airbus Model A300 B2 and B4, A300-600, and A310 series airplanes is provided in RATIER-FIGEAC Service Bulletin 701-5000-52-9, Revision 1, dated October 10, 1996.

Corrective Action

(c) If any corrosion is found during any inspection required by paragraph (b) of this AD, before further flight, accomplish either paragraph (c)(1) or (c)(2) of this AD, in accordance with Airbus Service Bulletin A300-52-0168, Revision 02, excluding Service Bulletin Acceptance/Rejection Sheet (for Model A300 B2 and B4 series airplanes); A300-52-6052, Revision 02, excluding Service Bulletin Acceptance/Rejection Sheet (for Model A300-600 series airplanes); or A310-52-2058, Revision 02, excluding Service Bulletin Acceptance/Rejection Sheet (for Model A310 series airplanes); all dated October 25, 1999; A330-52-3038, Revision 01, dated December 2, 1996 (for Model A330 series airplanes); A340-52-4048, Revision 03, dated June 10, 1997 (for Model A340 series airplanes); or Airbus AOT 52-12, Revision 1, dated May 9, 1996 (for Model A319, A320, and A321 series airplanes); as applicable. Although certain service bulletins reference a reporting requirement, such reporting is not required by this AD.

(1) Clean the corroded areas of the emergency actuator striker mechanism to restore proper function, and re-install the mechanism; and, within 18 months after the corrosion is found, replace the mechanism with a serviceable part; or

(2) Replace the emergency actuator striker mechanism with a serviceable part.

(d) Inspections and corrective action done before the effective date of this AD in accordance with Airbus Service Bulletin A300-52-0168, dated December 4, 1996, or Revision 01, dated March 26, 1998; A300-52-6052, dated December 4, 1996, or Revision 01, dated March 26, 1998; or A310-52-2058, dated December 4, 1996, or Revision 01, dated March 26, 1998; are considered acceptable for compliance with the applicable actions specified in this amendment.

(e) Inspections and corrective action accomplished prior to the effective date of this AD in accordance with Airbus A320 Maintenance Planning Document, task number 521000-13-1, are considered acceptable for compliance with paragraphs (b) and (c) of this AD.

Terminating Action

(f) Within 36 months after the effective date of this AD: Modify the striker mechanism of the emergency and passenger door actuators (includes replacement of the existing copper diaphragm in the striker mechanism with an aluminum diaphragm and re-identification of the actuators) in accordance with Airbus Service Bulletin A300-52-0173, Revision 01, dated September 7, 2000 (for Model A300 B2 and B4 series airplanes); A300-52-6061, Revision 01, dated September 7, 2000 (for Model A300-600 series airplanes); A310-52-2065, Revision 01, dated September 7, 2000 (for Model A310 series airplanes); A330-52-3048, Revision 01, dated December 2, 1998 (for Model A330 series airplanes); A340-52-4059, Revision 01, dated December 2, 1998 (for Model A340 series airplanes); or A320-52-1094, Revision 02, dated April 7, 1999 (for Model A319, A320, and A321 series airplanes); as applicable.

(g) Modification of the striker mechanism accomplished prior to the effective date of this AD in accordance with Airbus Service Bulletin A320-52-1094, Revision 1, dated June 17, 1998, is considered acceptable for compliance with paragraph (f) of this AD.

Part Installation

(h) As of the effective date of this AD, no person shall install a passenger door or emergency door actuator on any airplane without first inspecting that actuator in accordance with paragraph (b) of this AD; and repairing, if necessary, in accordance with paragraph (c) of this AD.

Alternative Methods of Compliance

(i) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(j) Special flight permits may be issued in accordance with sections 21.197 and 21.199 of the Federal Aviation Regulations (14 CFR 21.197 and 21.199) to operate the airplane to a location where the requirements of this AD can be accomplished.

Incorporation by Reference

(k) The actions shall be done per the applicable Airbus service information in the following table:

Table.—Service Information
Airbus service information | Revision level | Excluding | Date
All Operator Telex (AOT) 52-12 | 1 | not applicable | May 9, 1996.
Service Bulletin A300-52-0168 | 02 | Service Bulletin Acceptance/Rejection Sheet | October 25, 1999.
Service Bulletin A300-52-0173 | 01 | not applicable | September 7, 2000.
Service Bulletin A300-52-6052 | 02 | Service Bulletin Acceptance/Rejection Sheet | October 25, 1999.
Service Bulletin A300-52-6061 | 01 | not applicable | September 7, 2000.
Service Bulletin A310-52-2058 | 02 | Service Bulletin Acceptance/Rejection Sheet | October 25, 1999.
Service Bulletin A310-52-2065 | 01 | not applicable | September 7, 2000.
Service Bulletin A320-52-1094 | 02 | not applicable | April 7, 1999.
Service Bulletin A330-52-3038 | 01 | not applicable | December 2, 1996.
Service Bulletin A330-52-3048 | 01 | not applicable | December 2, 1998.
Service Bulletin A340-52-4048 | 03 | not applicable | June 10, 1997.
Service Bulletin A340-52-4059 | 01 | not applicable | December 2, 1998.

(1) This incorporation by reference was approved by the Director of the Federal Register in accordance with 5 U.S.C. 552(a) and 1 CFR part 51.

(2) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directives 1998-482-122(B) R1, dated April 21, 1999; 1999-410-294(B) R1, dated November 17, 1999; and 98-507-085(B) and 98-508-106(B), both dated December 16, 1998.

Effective Date

(l) This amendment becomes effective on March 7, 2003.

Issued in Renton, Washington, on January 22, 2003.
Vi L. Lipski,
Manager, Transport Airplane Directorate, Aircraft Certification Service.

[FR Doc. 03-1831 Filed 1-30-03; 8:45 am]

BILLING CODE 4910-13-P